DEPARTMENT OF COMMERCE

National Institute of Standards and Technology

Open Meeting of the Information Security and Privacy Advisory Board

AGENCY: National Institute of Standards and Technology.

ACTION: Notice.

SUMMARY: The Information Security and Privacy Advisory Board (ISPAB) will meet Wednesday, March 20, 2019 from 9:00 a.m. until 5:00 p.m., Eastern Time, and Thursday, March 21, 2019 from 9:00 a.m. until 4:30 p.m. Eastern Time. All sessions will be open to the public.

DATES: The meeting will be held on Wednesday, March 20, 2019, from 9:00 a.m. until 5:00 p.m., Eastern Time, and Thursday, March 21, 2019, from 9:00 a.m. until 4:30 p.m. Eastern Time.

ADDRESSES: The meeting will be held at Symantec, 700 13th St. NW, Washington, DC 20005. Please note admittance instructions under the SUPPLEMENTARY INFORMATION section of this notice.

FOR FURTHER INFORMATION CONTACT: Jeff Brewer, Information Technology Laboratory, NIST, 100 Bureau Drive, Stop 8930, Gaithersburg, MD 20899-8930, Telephone: (301) 975-2489, Email address: jeffrey.brewer@nist.gov.

SUPPLEMENTARY INFORMATION: Pursuant to the Federal Advisory Committee Act, as amended, 5 U.S.C. App., notice is hereby given that the ISPAB will meet Wednesday, March 20, 2019, from 9:00 a.m. until 5:00 p.m., Eastern Time, and Thursday, March 21, 2019 from 9:00 a.m. until 4:30 p.m. Eastern Time. All sessions will be open to the public. The ISPAB is authorized by 15 U.S.C. 278g-4, as amended, and advises the National Institute of Standards and Technology (NIST), the Secretary of Homeland Security, and the Director of the Office of Management and Budget (OMB) on information security and privacy issues pertaining to Federal government information systems, including thorough review of proposed standards and guidelines developed by NIST. Details regarding the ISPAB's activities are available at http://csrc.nist.gov/groups/SMA/ispab/index.html.

The agenda is expected to include the following items:

—Briefing on the U.S. Government Supply Chain Risk Management Council,

—Briefing from Health and Human Services on their Healthcare Cybersecurity Program,

—Briefing on AI and cybersecurity,

—Briefing on Global Positioning System cybersecurity,

—Briefing on the Department of Homeland Security Emergency Directive,

—Briefing on transitions from internet Protocols Version (IPV) 4 to IPV 6.

Note that agenda items may change without notice. The final agenda will be posted on the website indicated above. Seating will be available for the public and media. Pre-registration is not required to attend this meeting.

Public Participation: The ISPAB agenda will include a period, not to exceed thirty minutes, for oral comments from the public (Wednesday, March 20, 2019, between 4:30 p.m. and 5:00 p.m.). Speakers will be selected on a first-come, first-served basis. Each speaker will be limited to five minutes. Questions from the public will not be considered during this period. Members of the public who are interested in speaking are requested to contact Jeff Brewer at the contact information indicated in the FOR FURTHER INFORMATION CONTACT section of this notice.

Speakers who wish to expand upon their oral statements, those who had wished to speak but could not be accommodated on the agenda, and those who were unable to attend in person are invited to submit written statements. In addition, written statements are invited and may be submitted to the ISPAB at any time. All written statements should be directed to the ISPAB Secretariat, Information Technology Laboratory, 100 Bureau Drive, Stop 8930, National Institute of Standards and Technology, Gaithersburg, MD 20899-8930.

Pre-registration, which is not required, may expedite the entrance process. Please email Jeff Brewer at Jeffrey.Brewer@nist.gov by March 19, 2019 to pre-register.

Kevin A. Kimball,
Chief of Staff.

[FR Doc. 2019-03755 Filed 3-1-19; 8:45 am]

BILLING CODE 3510-13-P